DEPARTMENT OF LABOR

Employment and Training Administration

[TA-W-54,196]

Shape Global Technology, Sanford, ME; Notice of Termination of Investigation

Pursuant to section 221 of the Trade Act of 1974, as amended, an investigation was initiated on February 6, 2004, in response to a petition filed by the company on behalf of workers at Shape Global Technology, Sanford, Maine.

The petitioner has requested that the petition be withdrawn. Consequently, further investigation in this case would serve no purpose, and the investigation has been terminated.

Signed at Washington, DC, this 2nd day of March, 2004.
Elliott S. Kushner,
Certifying Officer, Division of Trade Adjustment Assistance.

[FR Doc. E4-585 Filed 3-15-04; 8:45 am]

BILLING CODE 4510-13-P